DEPARTMENT OF ENERGY

Office of Arms Control and Nonproliferation; Proposed Subsequent Arrangement

AGENCY: Department of Energy.

ACTION: Subsequent arrangement.

SUMMARY: This notice is being issued under the authority of section 131 of the Atomic Energy Act of 1954, as amended (42 U.S.C. 2160). The Department is providing notice of a proposed “subsequent arrangement” under the Agreement for Cooperation Concerning Civil Uses of Atomic Energy between the United States and Canada, and the Agreement for Cooperation Between the Government of the United States of America and the Government of the Republic of Korea Concerning Civil Uses of Atomic Energy.

This subsequent arrangement concerns the retransfer of eighteen 36-element fuel bundles and twelve 18-element fuel bundles, totaling 55,000 grams uranium (19.75 percent enriched U-235), from the AECL Chalk River Laboratories, Chalk River, Ontario, Canada, to the Korea Atomic Energy Research Institute (KAERI) Hanaro Reactor Center. The material, which is currently located Chalk River, Ontario, will be used by KAERI for additional fueling for the Hanaro Reactor Center.

In accordance with section 131 of the Atomic Energy Act of 1954, as amended, we have determined that this subsequent arrangement will not be inimical to the common defense and security.

This subsequent arrangement will take effect no sooner than fifteen days after the publication of this notice.

Dated: October 24, 2001.
For the National Nuclear Security Administration.
Trisha Dedik,
Director, Office of Nonproliferation Policy.

[FR Doc. 01-27233 Filed 10-29-01; 8:45 am]

BILLING CODE 6450-01-P